ENVIRONMENTAL PROTECTION AGENCY

[FRL-9124-3]

FY2010 Supplemental Funding for Brownfields Revolving Loan Fund (RLF) Grantees

Correction

In notice document 2010-4965 beginning on page 10793 in the issue of Tuesday, March 9, 2010, make the following correction:

On page 10793, in the second column, under SUMMARY, in the second paragraph, in the sixth line “insert date 30 days from date of publication” should read “April 8, 2010”.

[FR Doc. C1-2010-4965 Filed 3-15-10; 8:45 am]

BILLING CODE 1505-01-D